ENVIRONMENTAL PROTECTION AGENCY

40 CFR Part 50

[EPA-HQ-OAR-2007-1145; FRL-9471-7]

RIN 2060-AO72

Extension of Comment Period for Secondary National Ambient Air Quality Standards for Oxides of Nitrogen and Sulfur

AGENCY: Environmental Protection Agency (EPA).

ACTION: Notice of extension of public comment period.

SUMMARY: The EPA is announcing the extension of the public comment period for the Secondary National Ambient Air Quality Standards for Oxides of Nitrogen and Sulfur to October 10, 2011.

DATES: The public comment period will be extended to October 10, 2011.

ADDRESSES: Written comments on this proposed rule may be submitted to the EPA electronically, by mail, by facsimile, or through hand delivery/courier.

Submit your comments, identified by Docket ID No. EPA-HQ-OAR-2007-1145, by one of the following methods:

• http://www.regulations.gov: Follow the on-line instructions for submitting comments.

• E-mail: a-and-r-Docket@epa.gov.

• Fax: 202-566-1741.

• Mail: Docket No. EPA-HQ-OAR-2007-1145, Environmental Protection Agency, Mail code 6102T, 1200 Pennsylvania Ave., NW., Washington, DC 20460. Please include a total of two copies.

• Hand Delivery: Docket No. EPA-HQ-OAR-2007-1145, Environmental Protection Agency, EPA West, Room 3334, 1301 Constitution Ave., NW., Washington, DC. Such deliveries are only accepted during the Docket's normal hours of operation, and special arrangements should be made for deliveries of boxed information.

Instructions: Direct your comments to Docket ID No. EPA-HQ-OAR-2007-1145. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket

A complete set of documents related to the proposal is available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov.

FOR FURTHER INFORMATION CONTACT: Questions concerning the “Secondary National Ambient Air Quality Standards for Oxides of Nitrogen and Sulfur” proposed rule should be addressed to Rich Scheffe, U.S. EPA, Office of Air Quality Planning and Standards, Air Quality Assessment Division, (C304-02), Research Triangle Park, NC 27711, telephone: (919) 541-4650, e-mail: scheffe.rich@epa.gov.

SUPPLEMENTARY INFORMATION:

Extension of public comment period. The EPA has received requests for additional time from stakeholders and has decided to extend the comment period by 10 days to allow interested parties to have additional time to prepare their comments. The proposal was published in the Federal Register on August 1, 2011, (76 FR 46084) and is available on the following Web site: http://www.epa.gov/ttn/naaqs/standards/no2so2sec/cr_fr.html.

How can I get copies of this document and other related information?

The EPA has established the official public docket for the “Secondary National Ambient Air Quality Standards for Oxides of Nitrogen and Sulfur” under Docket Number EPA-HQ-OAR-2007-1145. The EPA has also developed a Web site for the proposal at the address given above. Please refer to the proposal, published in the Federal Register on August 1, 2011, (76 FR 46084) for detailed information on accessing information related to the proposal.

Dated: September 21, 2011.
Mary Henigin,
Acting Director, Office of Air Quality Planning and Standards.

[FR Doc. 2011-24856 Filed 9-26-11; 8:45 am]

BILLING CODE 6560-50-P